ENVIRONMENTAL PROTECTION AGENCY

40 CFR Part 52

[EPA-R05-OAR-2023-0190; FRL-12117-02-R5]

Air Plan Approval; Indiana; Ozone SIP Modifications Due to the Municipal Solid Waste Landfill Update

AGENCY: Environmental Protection Agency (EPA).

ACTION: Direct final rule.

SUMMARY: The Environmental Protection Agency (EPA) is approving the Indiana Department of Environmental Management's (IDEM) request to repeal and replace portions of the Indiana Administrative Code (IAC) for Lake, Porter, Clark, and Floyd Counties in Indiana. This new regulation includes Federal updates to municipal solid waste landfill rules with the incorporation by reference of the Federal plan for Municipal Solid Waste Landfills. EPA finds that this action is approvable because it is consistent with the EPA's Emission Guidelines for Municipal Solid Waste Landfills and is a SIP strengthening measure.

DATES: This direct final rule will be effective October 15, 2024, unless EPA receives adverse comments by September 16, 2024. If adverse comments are received, EPA will publish a timely withdrawal of the direct final rule in the Federal Register informing the public that the rule will not take effect.

ADDRESSES: Submit your comments, identified by Docket ID No. EPA-R05-OAR-2023-0190 at https://www.regulations.gov, or via email to arra.sarah@epa.gov. For comments submitted at https://www.regulations.gov, follow the online instructions for submitting comments. Once submitted, comments cannot be edited or removed from the docket. EPA may publish any comment received to its public docket. Do not submit electronically any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Katie Mullen, Air and Radiation Division (AR18J), Environmental Protection Agency, Region 5, 77 West Jackson Boulevard, Chicago, Illinois 60604, (312) 353-3490, mullen.kathleen@epa.gov. The EPA Region 5 office is open from 8:30 a.m. to 4:30 p.m., Monday through Friday, excluding Federal holidays.

SUPPLEMENTARY INFORMATION: Throughout this document whenever “we,” “us,” or “our” is used, we mean EPA.

I. What is the background of this SIP submission?

Municipal solid waste landfills (MSWLFs) are discrete areas of land or excavation that receive household waste or other types of nonhazardous wastes such as commercial solid waste, nonhazardous sludge, and industrial nonhazardous solid waste. The original New Source Performance Standards (NSPS) (40 CFR part 60, subpart WWW) for MSWLFs and Emission Guidelines (40 CFR part 60, subpart Cc) for existing MSWLFs were promulgated by EPA on March 12, 1996 (61 FR 9905), based on the determination that MSWLFs cause or significantly contribute to air pollution that is considered to endanger public health and welfare.

326 IAC 8-8 implements the Federal 1996 Emission Guidelines and applies to landfills located in Lake, Porter, Clark, and Floyd counties. On January 17, 1997, EPA approved 326 IAC 8-8 into Indiana's SIP to address volatile organic compound (VOC) emission reductions for the nonattainment counties under the 1-hour ozone National Ambient Air Quality Standard (NAAQS). Specifically, 326 IAC 8-8 addresses Indiana's 15% Rate of Progress Plan to control VOC emissions in Clark and Floyd Counties and is included in the VOC contingency plans for Lake and Porter Counties (January 17, 1997, 62 FR 2591).

On August 29, 2016, EPA revised the MSWLF NSPS and Emission Guidelines in 40 CFR part 60, subparts XXX and Cf, respectively (81 FR 59332; 81 FR 59276). The 2016 Emission Guidelines revision updates the control requirements and monitoring, reporting, and recordkeeping provisions for existing MSWLF sources. In particular, the 2016 Emissions Guidelines implement changes to existing landfills that lower the emissions threshold of non-methane organic compounds (which include VOCs), at which an operator must install controls.

On May 21, 2021, EPA promulgated 40 CFR part 62, subpart OOO as the Federal plan for existing landfills (86 FR 27770). Indiana promulgated 326 IAC 8-8.2 to incorporate by reference the Federal plan to use as the underlying rule which implements and enforces the applicable provisions under the MSWLF 2016 Emission Guidelines in 40 CFR part 60, subpart Cf.

Consequently, MSWLFs in Indiana are subject to both 326 IAC 8-8 and the Federal plan for existing landfills if EPA does not repeal 326 IAC 8-8 and replace it with rule 326 IAC 8-8.2.

II. What is EPA's analysis of the SIP revision

326 IAC 8-8.2 includes Federal updates to MSWLF rules with the incorporation by reference of the Federal plan for MSWLFs at 40 CFR part 62, subpart OOO. The Federal plan implements and enforces the 2016 MSWLF Emission Guidelines, codified in 40 CFR part 60, subpart Cf.

The updated 2016 Emission Guidelines apply to landfills constructed, modified, or reconstructed on or before July 17, 2014. These Emission Guidelines achieve additional emissions reductions of landfill gas and its components, including VOCs, by lowering the emissions threshold at which a landfill must install controls.

In particular, the 2016 Emission Guidelines are more stringent since they require affected landfills to install and operate gas collection control systems within 30 months after landfill gas emissions reach a new, lower threshold of 34 metric tons of non-methane organic compounds, which includes VOCs, or more per year. This threshold previously was higher at 50 metric tons per year in the 1996 Emission Guidelines, which is incorporated in 326 IAC 8-8.

In addition, the 2016 Emission Guidelines address other regulatory issues, including surface emissions monitoring, wellhead monitoring, and the definition of landfill gas treatment system.

Since 326 IAC 8-8.2 is more stringent than 326 IAC 8-8 and reflects EPA's most recent Federal rulemaking on MSWLFs, EPA approves this regulation to replace 326 IAC 8-8.

III. What action is EPA taking?

EPA is approving 326 IAC 8-8.2 for Lake, Porter, Clark, and Floyd Counties in Indiana and the repeal of 326 IAC 8-8 for those same counties. EPA is approving 326 IAC 8-8.2 as a VOC SIP strengthening measure.

We are publishing this action without prior proposal because we view this as a noncontroversial amendment and anticipate no adverse comments. However, in the proposed rules section of this Federal Register publication, we are publishing a separate document that will serve as the proposal to approve the State plan if relevant adverse written comments are filed. This rule will be effective October 15, 2024 without further notice unless we receive relevant adverse written comments by September 16, 2024. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective October 15, 2024.

IV. Incorporation by Reference

In this rule, EPA is finalizing regulatory text that includes incorporation by reference. In accordance with requirements of 1 CFR 51.5, EPA is finalizing the incorporation by reference of the Indiana Regulations 326 IAC 8-8.2 effective March 10, 2023, described in section II of this preamble and set forth in the amendments to 40 CFR part 52 below. EPA has made, and will continue to make, these documents generally available through www.regulations.gov and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

Also in this document, as described in Section II of this preamble and the amendments to 40 CFR part 52 set forth below, EPA is removing provisions of the EPA-Approved Indiana Regulations from the Indiana SIP, which is incorporated by reference in accordance with the requirements of 1 CFR part 51.

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

IDEM did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

List of Subjects in 40 CFR Part 52

Environmental protection, Air pollution control, Incorporation by reference, Intergovernmental relations, Ozone, Volatile organic compounds.

Dated: August 7, 2024.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.770, the table in paragraph (c) is amended under “Article 8. Volatile Organic Compound Rules” by removing the entry “Rule 8. Municipal Solid Waste Landfills Located in Clark, Floyd, Lake, and Porter Counties:” and adding in numerical order the entry “Rule 8.2. Federal Standards Applicable to Certain Municipal Solid Waste Landfills” to read as follows:

§ 52.770 Identification of plan.

* * * * *

(c) * * *

EPA Approved Indiana Regulations
Indiana citation | Subject | Indiana effective date | EPA approval date | Notes
* * * * * * *
Article 8. Volatile Organic Compound Rules
* * * * * * *
Rule 8.2. Federal Standards Applicable to Certain Municipal Solid Waste Landfill
8-8.2 | Adoption of federal standards applicable to certain municipal solid waste landfills | 12/8/2021 | 8/16/2024, [INSERT FIRST PAGE OF FEDERAL REGISTER CITATION] |
* * * * * * *

* * * * *

[FR Doc. 2024-17991 Filed 8-15-24; 8:45 am]

BILLING CODE 6560-50-P